NATIONAL WOMEN'S BUSINESS COUNCIL

Quarterly Public Meeting

AGENCY: National Women's Business Council.

ACTION: Notice of open public meeting.

DATES: The Public Meeting will be held on Tuesday, August 2nd, 2016 from 9:30 a.m. to 11:30 a.m. EST.

ADDRESSES: The meeting will be held in Atlanta, GA. Location details will be provided upon RSVP, as will information about teleconferencing and livestream options.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 4th quarter meeting for Fiscal Year 2016. The program will include remarks from the Council Chair, Carla Harris; updates on research projects in progress, including: Women's participation in corporate supplier diversity programs, women's participation in accelerators and incubators, entrepreneurial ecosystems, and an upcoming report on the entrepreneurship amongst black women project; a recap of the Council's recent engagement efforts; and an announcement of the Council's FY2017 research portfolio. Time will be reserved at the end for audience participants to address Council Members directly with questions, comments, or feedback. Additional speakers will be promoted upon confirmation.

FOR FURTHER INFORMATION CONTACT: The meeting is open to the public however advance notice of attendance is requested. To RSVP and confirm attendance, the general public should email info@nwbc.gov with subject line—“RSVP for 8/02 Public Meeting”. Anyone wishing to make a presentation to the NWBC at this meeting must either email their interest to info@nwbc.gov or call the main office number at 202-205-3850.

For more information, please visit the National Women's Business Council Web site at www.nwbc.gov.

Dated: July 8, 2016.
Miguel J. L'Heureux,
SBA Committee Management Officer.

[FR Doc. 2016-16983 Filed 7-18-16; 8:45 am]

BILLING CODE P